DEPARTMENT OF HEALTH AND HUMAN SERVICES

Centers for Disease Control and Prevention

[30Day-20-0943]

Agency Forms Undergoing Paperwork Reduction Act Review

In accordance with the Paperwork Reduction Act of 1995, the Centers for Disease Control and Prevention (CDC) has submitted the information collection request titled, National Post-Acute and Long-Term Care Study (NPALS) to the Office of Management and Budget (OMB) for review and approval. CDC previously published a “Proposed Data Collection Submitted for Public Comment and Recommendations” notice on October 25, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Data collection for the residential care community and adult day service center components of the National Post-Acute and Long-Term Care Study (OMB Control No. 0920-0943)—Reinstatement with Change—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources . . . [and] utilization of health care, including extended care facilities, and other institutions.”

NCHS seeks approval to collect data for the residential care community (RCC) and adult day services center (ADSC) survey components of the 5th National Post-Acute and Long-Term Care Study or NPALS (formerly known as the National Study of Long-Term Care Providers or NSLTCP). A two-year clearance is requested.

The NPALS is designed to (1) broaden NCHS' ongoing coverage of paid, regulated long-term care (LTC) providers; (2) merge with existing administrative data on LTC providers and service users (i.e., Centers for Medicare and Medicaid Services (CMS) data on inpatient rehabilitation facilities and patients, long-term care hospitals and patients, nursing homes and residents, home health agencies and patients, and hospices and patients); (3) update data more frequently on LTC providers and service users for which nationally representative administrative data do not exist; and (4) enable comparisons across LTC sectors and timely monitoring of supply and use of these sectors over time.

Data will be collected from two types of LTC providers in the 50 states and the District of Columbia: 11,600 RCCs and 5,500 ADSCs in each wave. Data were collected in 2012, 2014, 2016, and 2018. The data to be collected in 2020 include the basic characteristics, services, staffing, and practices of RCCs and ADSCs, and aggregate-level distributions of the demographics, selected health conditions and health care utilization, physical functioning, and cognitive functioning of RCC residents and ADSC participants. For 2020, we plan to add seven questions that will ask about: (1) Number of COVID-19 cases among service users and among staff (2) number of hospitalizations and of deaths among COVID-19 cases (3) availability of personal protective equipment, (4) shortages of COVID-19 testing, (5) use of telemedicine/telehealth, (6) restrictions on visitors, and (7) general infection control policies and practices.

Expected users of data from this collection effort include, but are not limited to; other Department of Health and Human Services (DHHS) agencies, such as the Office of the Assistant Secretary for Planning and Evaluation, the Administration for Community Living, and the Agency for Healthcare Research and Quality; associations, such as LeadingAge, National Center for Assisted Living, American Seniors Housing Association, Argentum, and National Adult Day Services Association; universities; foundations; and other private sector organizations such as the Alzheimer's Association, the AARP Public Policy Institute, and the National Academies of Sciences, Engineering, and Medicine.

Expected burden from data collection for eligible cases is 30 minutes per respondent, except 5% of RCCs and ADSCs that will need five minutes of data retrieval. We calculated the burden based on a 100% response rate. A two-year clearance is requested to cover the collection of data. The burden for the collection is estimated to be 4,311 hours. There is no cost to respondents other than their time to participate.

Estimated Annualized Burden Hours
Type of respondents | Form name | Number of respondents | Number of responses per respondent | Average burden per response (in hours)
RCC Director/Designated Staff Member | RCC Questionnaire | 5,800 | 1 | 30/60
ADSC Director/Designated Staff Member | ADSC Questionnaire | 2,750 | 1 | 30/60
RCC and ADSC Directors/Designated Staff Members | Data Retrieval | 428 | 1 | 5/60

Jeffrey M. Zirger,
Lead, Information Collection Review Office, Office of Scientific Integrity, Office of Science, Centers for Disease Control and Prevention.

[FR Doc. 2020-16258 Filed 7-27-20; 8:45 am]

BILLING CODE 4163-18-P